DEPARTMENT OF THE INTERIOR

Bureau of Indian Affairs

Public Comment About Congressionally Mandated Study of Energy Rights-of-Way on Tribal Lands

AGENCY: Office of Indian Energy and Economic Development, Interior.

ACTION: Notice of request for public comment.

SUMMARY: Section 1813 of the Energy Policy Act of 2005 (Pub. L. 109-58) requires the Department of the Interior (DOI) and Department of Energy to provide Congress with a study regarding energy rights-of-way on tribal lands. The study is due to Congress by August 7, 2006. The Departments are interested in receiving comments from the public about how to proceed with implementing section 1813.

DATES: Comments are due on or before January 20, 2006.

ADDRESSES: Send written comments by regular mail to Attention: Section 1813 ROW Study, Office of Indian Energy and Economic Development, 1849 C St., NW., Mail Stop 2749-MIB, Washington, DC, 20240 or by e-mail to IEED@bia.edu.

FOR FURTHER INFORMATION CONTACT: Mr. Darryl Francois, Office of Indian Energy and Economic Development, 1849 C St., NW., Mail Stop 2749-MIB, Washington, DC, 20240. He can also be reached by telephone at (202) 219-0740 or by electronic mail at darryl.francois@mms.gov.

SUPPLEMENTARY INFORMATION: Section 1813 of the Energy Policy Act of 2005 (Pub. L. 109-58) requires the Secretaries of the Department of the Interior and the Department of Energy (Departments) to conduct a study of energy related rights-of-way on tribal lands. The Act requires that the study address four subjects:

1. An analysis of historical rates of compensation;

2. Recommendations for appropriate standards to determine fair and appropriate compensation;

3. An assessment of tribal self-determination and sovereignty interests implicated by applications for rights-of-way on tribal land; and

4. An analysis of relevant national energy transportation policies.

The Departments propose the following work plan to meet the specific requirements of the Act and meet the congressionally mandated deadline for submittal of the final report.

1. DOI and DOE plan to conduct a series of pre-scoping phone calls and meetings with selected tribal leaders, members of the energy industry, appropriate government entities and affected businesses and consumers to discuss the various aspects of the report called for by section 1813. Participants in this pre-scoping work group will be identified through suggestions tribal leaders, other prominent Indian groups, business associations, and government organizations. The outcome of these pre-scoping discussions will provide useful detail and direction for the subsequent stages of the work plan.

2. DOI and DOE propose to contract with a Department of Energy National Laboratory to prepare an analysis of historical rates of compensation for pipelines crossing Indian land (as specified in section 1813(b)(1)), using a case study approach. We plan to direct the analysts to solicit and collect data from the Bureau of Indian Affairs, Tribal Governments, the energy industry, and other appropriate sources (e.g., the National Archives and Records Administration) for this analysis.

3. In February 2006, DOI and DOE plan to jointly conduct a 2-day nation-wide scoping meeting with presentations from all affected groups, soliciting input on the subjects of appropriate standards and procedures for determining fair and appropriate compensation, tribal self-determination and sovereignty interests, and relevant national energy transportation policies. At this meeting, we propose to establish several working groups to solicit and further develop information on each of these subjects.

4. Between February and May 2006, DOI and DOE plan to conduct up to two workshops for each of these working groups. We expect to draw extensively on the results of the groups' efforts in preparing the report to Congress.

5. In May 2006, DOI and DOE plan to prepare a draft report, send copies to the tribes, and publish a notice of availability in the Federal Register.

6. Between May 2006 and mid-July 2006, DOI and DOE plan to conduct three regional Tribal consultation meetings to present the draft report and to receive written and oral comments on the draft.

7. DOI and DOE will consider these comments in preparing a final report for delivery to Congress by August 7, 2006.

The Departments request public comment on proposed work plan in addition to any other areas of concern regarding the section 1813 study. We will accept comments until January 20, 2006.

If you want to provide comments, please send written comments by regular mail to Attention: Section 1813 ROW Study, Office of Indian Energy and Economic Development, 1849 C St., NW., Mail Stop 2749, Washington, DC, 20240 or by email to IEED@bia.edu.

Dated: December 22, 2005.
Michael D. Olsen,
Principal Deputy Assistant Secretary—Indian Affairs.

[FR Doc. E5-8068 Filed 12-28-05; 8:45 am]

BILLING CODE 4310-96-P